DEPARTMENT OF HOUSING AND URBAN DEVELOPMENT

[Docket No. FR-4921-C-02]

Notice of Funding Availability for Revitalization of Severely Distressed Public Housing HOPE VI Revitalization Grants Fiscal Year 2004; Correction

AGENCY: Office of the Assistant Secretary for Public and Indian Housing, HUD.

ACTION: Notice of funding availability; correction.

SUMMARY: On November 3, 2004, HUD published the Notice of Funding Availability (NOFA) for Revitalization of Severely Distressed Public Housing HOPE VI Revitalization and Demolition Grants for Fiscal Year 2004. This notice announces several corrections to the NOFA.

FOR FURTHER INFORMATION CONTACT: Lar Gnessin, Office of Public Housing Investments, Office of Public and Indian Housing, Department of Housing and Urban Development, 451 Seventh Street, SW., Washington DC, 20410-5000; telephone (202) 708-0614 extension 2676 (this is not a toll-free number). Hearing-or speech-impaired individuals may access this number via TTY by calling the toll-free Federal Information Relay Service at (800) 877-8339.

SUPPLEMENTARY INFORMATION: .

On November 3, 2004, HUD published (69 FR 64136) the Notice of Funding Availability (NOFA) for Revitalization of Severely Distressed Public Housing HOPE VI Revitalization and Demolition Grants for Fiscal Year 2004. This notice announces corrections to the NOFA.

Subsequent to publication, the Department discovered that some references had been inconsistently used in the NOFA and appendices. Corrections to incorrect references are made in this document. This notice also makes a clarification to the description of calculating matching funds. Further clarification is made in the milestone chart that describes, in general, a timeline for the HOPE VI grant cycle. In addition, the notice clarifies that as part of the determination of capacity of existing HOPE VI grantees, production achievement numbers will be taken from the HOPE VI Quarterly Progress Report for the quarter ending September 30, 2004.

In addition, the Department discovered that two required submission items that are described in the NOFA were inadvertently left off the application checklist. Consequently, this notice explains that the checklist is no longer a required submission of the application. Although the application checklist is not required, HUD recommends that applicants utilize the suggested Table of Contents, Appendix 1 to this Notice, to help ensure that they have included all necessary documents with their applications. For a complete list of required narrative exhibits and forms, see pages 64149 and 64150 of the November 3, 2004, NOFA publication.

After publication, HUD took notice that the explanation of Housing Choice Voucher utilization rate was unclear. Therefore, this notice also clarifies for applicants how to determine the Housing Choice Voucher utilization rate. Similarly, HUD determined that the NOFA definition of “project-based affordable housing units” needed clarification and is made clear in this correction notice. Other clarifications are included in this notice to assist applicants in understanding the NOFA. Finally, this correction notice includes additional detailed application submission information in appendices 2 and 3.

Accordingly, the Notice of Funding Availability for Revitalization of Severely Distressed Public Housing HOPE VI Revitalization Grants for Fiscal Year 2004, published in the Federal Register on November 3, 2004 (69 FR 64135) is corrected as follows:

1. On page 64138, in the middle column, revise paragraph III.B.1.c. to read as follows: “c. In accordance with Section 24(c) of the Act, for purposes of calculating the amount of matching funds required by Sections a. and b. above, you may not include amounts from HOPE VI program funding, including HOPE VI Revitalization, HOPE VI Demolition, and HOPE VI Neighborhood Networks grants. You may include funding from other public housing sources, e.g., Capital Funds, other federal sources, any state or local government source and any private contributions. You may also include the value of donated material or buildings, the value of any lease on a building, the value of the time and services contributed by volunteers, and the value of any other in-kind services or administrative costs provided.”

2. On page 64139, in the middle column, paragraph III.C.1.e., remove the phrase, “(community building, etc.)”

3. On page 64139, in the third column, paragraph III.C.1.i., page 64150, in the third column, paragraph IV.B.4.f., and on page 64156, in the middle column, paragraph V.A.1.c.(1)(iii):

a. Revise the Milestone table to read as follows:

Milestone | Date
Grant Award | May 2, 2005.
Grant Agreement Execution | August 1, 2005.
HUD's written request for Supplemental Submissions | September 1, 2005.
HUD's approval of Supplemental Submissions | January 2, 2006.

b. Remove the paragraph that follows immediately the Milestone table. “If grant award takes place after October 1, 2004, the grantee's program schedule may be changed in the Supplemental Submissions to account for the period of time between October 1, 2004, and the actual date of grant award.” and add in its place, “If grant award takes place after May 2, 2005, the grantee's program schedule may be changed in the Supplemental Submissions to account for the period of time between May 2, 2005, and the actual date of grant award.”

4. On page 64140, in the third column, remove paragraph III.C.2.a.(2).

5. On page 64141, in the first column, revise paragraph III.C.2.b.(3) to read as follows:

“(3) Resident Involvement in the Revitalization Program Certification.” You must certify that you have involved affected public housing residents at the beginning and during the planning process for the revitalization program, prior to submission of your application. If you have not included affected residents in the planning process, your application will not be rated or ranked and will be ineligible for funding. See Section III.C.4. of this NOFA for minimum training and meeting requirements and Section IV.B. of this NOFA for documentation requirements.

6. On page 64149, in the second column, remove paragraph IV.B.2.a.(3); Form HUD-52800, “HOPE VI Revitalization Application Checklist,” as this form is no longer a mandatory part of the application. Although the application checklist is not required, HUD recommends that applicants utilize the suggested Table of Contents, Appendix 1 to this Notice, to help ensure that they have included all necessary documents with their applications. For additional information about required narrative exhibits and forms, see pages 64149 and 64150 of the November 3, 2004 NOFA publication.

7. On page 64149, in the last column, remove paragraph IV.B.2.b.(17).

8. On page 64150, in the first column, add a new paragraph IV.B.2.c. after paragraph IV.B.2.b.(32)(d) to read as follows: “Additional detailed application submission information is included in Appendix 2 to this Notice, “HOPE VI Revitalization Application Submission Instructions,” and Appendix 3 to this Notice, “Instructions for HOPE VI Application Data Forms.”

9. On page 64150, in the first column, paragraph IV.B.4.d., This documentation is for the Need rating factor, not a threshold. Move paragraph IV.B.4.d. from its current position to page 64151, column 3, and label it paragraph IV.B.6.b.(3).

10. On page 64150, in the middle column, There are two paragraphs labeled “(3)” The paragraph beginning with, “(3) Applicants must ensure that their obligation and expenditure information was updated in LOCCS * * *” will remain as stated. Revise the paragraph beginning with, “(3) For MTW PHAs that do not record capital funds obligations in LOCCS * * *” by removing the paragraph label “(3)” and replacing it with the paragraph label “(4)”.

11. On page 64151, in the middle column, revise paragraph IV.B.5.c. to read as follows: “c. Relocation Plan Certification. (1) You must certify that the HOPE VI Relocation plan has been completed and that it conforms to the URA requirements as described in Sections III.C.4. and V.A.6. of this NOFA. If, after the deficiency cure period, this certification is not properly included in your application, the application will not be rated or ranked and will be ineligible for funding.”

12. On page 64153, in the third column, remove paragraph IV.B.6.f.(2).

13. On page 64153, in the third column, revise paragraph IV.B.6.j. by adding the following sentence at the end of the paragraph: “You must answer the questions in either Part A or Part B of the form, but not both.”

14. On page 64155, in the middle column, revise paragraph IV.E.6.c. by removing the phrase “* * * Control and Safe Harbor Standards can be found on the Grants.gov web site.” and replacing it with, “* * * Control and Safe Harbor Standards can be found on HUD's HOPE VI web site.”

15. On page 64156, in the second and third columns, revise paragraph V.A.1.d.(2) by removing the last sentence and replacing it with the following: “Production achievement numbers will be taken from the HOPE VI Quarterly Progress Report for the quarter ending September 30, 2004.”

16. On page 64157, in the middle column, add a new paragraph V.A.1.h.(4) after paragraph V.A.1.h.(3) to read as follows: “(4) For MTW PHA applicants: (a) If you are in compliance with your MTW Agreement, you will receive 2 points. (b) If you are not in compliance with your MTW Agreement, you will receive 0 points.”

17. On page 64157, in the middle column, add a new paragraph V.A.1.i.(4) after paragraph V.A.1.i.(3) to read as follows: “(4) For MTW PHA applicants: “(4) For MTW PHA applicants: (a) If you are in compliance with your MTW Agreement, you will receive 2 points. (b) If you are not in compliance with your MTW Agreement, you will receive 0 points.”

18. On page 64158, in the first column. There are two paragraphs labeled “c.” The paragraph heading, “c. Need for HOPE VI Funding—8 points.” remains as stated. Revise the paragraph heading, “c. Need for Affordable Accessible Housing in the Community—3 Points.” to read as follows: “d. Need for Affordable Accessible Housing in the Community—3 Points.”

19. On page 64158, in the middle column, revise the second sentence of paragraph V.A.2.d.(2) to read as follows: “* * * In figuring the Housing Choice Voucher utilization rate, determine and provide the percentage of HCV units out of the total number authorized or the percentage of HCV funds expended out of the total amount authorized, whichever percentage is higher * * *.”

20. On page 64158, in the middle column, revise paragraph V.A.2.d.(2) by adding at the end: “For Sections (3), (4) and (5) below, you will be rated based upon either (a) or (b), whichever is determined to be the higher of the two percentages. The lower of the two percentages will not affect your rating.”

21. On page 64158, in the middle column, revise paragraph V.A.2.d.(6) to read as follows: “(6) You will receive 0 Points if both the utilization rate of your Housing Choice Voucher program and the occupancy rate of your public housing inventory are less than 93 percent.”

22. On page 64158, in the third column, revise paragraph V.A.3.a. by adding at the end, “In determining Leverage ratios, HUD will include as Leverage the match amounts that are required by Section III.B. of this NOFA.”

23. On page 64159, in the first column, revise paragraph V.A.3.d.(1) to read as follows: “(1) You will receive 2 Points if the ratio of the amount of HOPE VI funds requested for physical development activities to the amount of your documented anticipatory resources is 1:0.1 or higher. The clause, “HOPE VI funds requested for physical development activities” is defined as your total requested amount of funds minus your requested CSS, administration amounts, and relocation. HUD will presume that your combined CSS and administration amounts are the total of Budget Line Items 1408 (excluding Management Improvements), 1410, and 1495 on the form HUD-52825-A, “HOPE VI Budget” that is included in your application.”

24. On page 64160, in the first column, revise paragraph V.A.6. by adding at the end, “For all applicants, whether you have completed, or have yet to complete, relocation of all residents of the targeted project, your HOPE VI Relocation Plan must include the three goals set out in Section 24, as described in Sections a.(1)(a), (b) and (c) below.”

25. On page 64160, in the first column, remove paragraph V.A.6.a.(2).

26. On page 64160, in the first column, revise paragraph V.A.6.b. through d. to read as follows: “b. You will receive 4 Points for this Factor if: Your Relocation Plan complies with only two of the goals in (a) through (c) above. c. You will receive 2 Points for this Factor if: Your Relocation Plan complies with only one of the requirements in (a) through (c) above. d. You will receive 0 Points for this Factor if: (1) Your Relocation Plan does not comply with any of the requirements in (a) through (c) above; or (2) Your application does not address this factor to an extent that makes HUD's rating of this factor possible.”

27. On page 64161, in the middle column, revise paragraph V.A.8.a.(1)(a) to read as follows: “project-based affordable housing units” are defined as on-site and off-site housing units where there are affordable-housing use restrictions on the unit, e.g., public housing, project-based HCV (Section 8) units, LIHTC units, HOME units, affordable homeownership units, etc.”

28. On page 64161, in the third column, remove paragraphs V.A.8.a.(1)(c) and (d).

29. On page 64161, in the third column, revise paragraph V.A.8.a.(2) by adding at the end, “* * * In figuring the Housing Choice Voucher utilization rate, determine and provide the percentage of HCV units out of the total number authorized or the percentage of HCV funds expended out of the total amount authorized, whichever percentage is higher * * *.”

30. On page 64164, in the middle column, revise paragraph V.B.5. by removing the citation to the “FY2003 HOPE VI appropriation” and adding in its place a citation to “FY2004 HOPE VI appropriation.”

31. On page 64164, in the third column, revise paragraph VI.B.2. to read as follows: “2. Timeliness of Development Activity. Grantees must proceed within a reasonable timeframe, as indicated below. In determining reasonableness of such timeframe, HUD will take into consideration those delays caused by factors beyond your control. These timeframes must be reflected in the form of a program schedule, in accordance with the threshold requirement at Section III.C.1.i. of this NOFA and the Rating Factor requirement at Section V.A.1.c. of this NOFA.”

32. On page 64166, in the third column, revise paragraph VII.B.1. to read as follows: “1. Technical corrections to this NOFA will be posted to the Grants.gov/Find website, to http://www.hud.gov/offices/adm/grants/otherhud.cfm and to HUD's HOPE VI website.”

33. On page 64168, remove form HUD-52800, “HOPE VI Revitalization Application Checklist,” as this form is no longer a mandatory part of the application. Although the application checklist is not required, HUD recommends that applicants utilize the suggested Table of Contents, Appendix 1 to this Notice, to help ensure that they have included all necessary documents with their applications. For a complete list of required narrative exhibits and forms, see pages 64149 and 64150 of the November 3, 2004 NOFA publication.

34. On page 64199, form HUD-52785, Attachment 23; In the first paragraph below the public reporting burden statement, remove the reference to “Section VII.(A)(2)” and add in its place a reference to “Section III.C.4.j.” In the paragraph below, “Date of HOPE VI Resident Training Session,” remove the reference to “Section VII.(A)(3)” and add in its place a reference to “Section III.C.4.j.”

35. On page 64200, form HUD-52787, Attachment 31; In the first paragraph below the public reporting burden statement, remove the reference to “Section XII.(B)(4)” and add in its place a reference to “Section V.A.9.d.” For the checklist item beginning, “The PHA has held 5 or more public planning sessions * * *,” remove the sentence, “No more than three of these meetings may be the same as those certified to in Attachment 23.”

Dated: December 20, 2004.
Michael Liu,
Assistant Secretary for Public and Indian Housing.

BILLING CODE 4210-33-P

[FR Doc. 04-28217 Filed 12-21-04; 2:47 pm]

BILLING CODE 4210-33-C